DEPARTMENT OF THE INTERIOR

Bureau of Land Management

[LLCOF02400.L16100000. LXSSC0100000.DO0000.19X]

Notice of Availability of the Draft Resource Management Plan and Associated Environmental Impact Statement for the Browns Canyon National Monument, CO

AGENCY: Bureau of Land Management, Interior.

ACTION: Notice of availability.

SUMMARY: In compliance with the National Environmental Policy Act of 1969, as amended; the Federal Land Policy and Management Act of 1976, as amended; and the National Forest Management Act of 1976, as amended; the Bureau of Land Management (BLM) Royal Gorge Field Office (RGFO), Cañon City, Colorado, and U.S. Forest Service (USFS), Pike-San Isabel National Forests and Comanche-Cimarron National Grasslands (PSICC), Pueblo, Colorado, have prepared a joint Resource Management Plan (RMP) and Forest Plan (FP) amendment, supported by an Environmental Impact Statement (EIS), for the Browns Canyon National Monument (BCNM) and by this notice are announcing the opening of the comment period.

DATES: To ensure that comments will be considered, the BLM must receive written comments on the Draft RMP-FP amendment/Draft EIS within 90 days following the date the Environmental Protection Agency publishes its Notice of Availability of the Draft RMP-FP amendment/Draft EIS in the Federal Register. The BLM will announce future meetings or hearings and any other public participation activities at least 15 days in advance through public notices, media releases, and/or mailings.

ADDRESSES: Comments related to the Draft BCNM RMP-FP amendment/Draft EIS must be submitted by any of the following methods:

• Electronic comments must be submitted via the BLM ePlanning website at https://go.usa.gov/xn2eC.

• Hard-copy comments must be submitted via mail or hand-delivered to BCNM RMP/EIS, 5575 Cleora Road, Salida, CO 81201.

Copies of the Draft BCNM RMP-FP amendment and Draft EIS are available at the RGFO, 3028 E. Main St., Cañon City, CO 81212, at the PSICC Salida Ranger District, 5575 Cleora Road, Salida, CO 81201, or on the BLM ePlanning website at https://go.usa.gov/xn2eC. Click the Documents & Reports link on the left side of the screen to find the electronic version of these materials.

FOR FURTHER INFORMATION CONTACT: Joseph Vieira, Project Manager, telephone 719-246-9966; address 5575 Cleora Road, Salida, CO 81201; email blm_co_brownscanyon@blm.gov. Persons who use a telecommunications device for the deaf (TDD) may call the Federal Relay Service (FRS) at 1-800-877-8339 to contact Mr. Vieira during normal business hours. The FRS is available 24 hours a day, 7 days a week, to leave a message or question. You will receive a reply during normal business hours.

SUPPLEMENTARY INFORMATION: The BLM and USFS have prepared the Draft BCNM RMP-FP amendment and Draft EIS to evaluate the management strategy for resources, resource uses, and special designations within the BCNM. The planning area is located in Chaffee County, Colorado, and encompasses approximately 21,600 acres. The BCNM RMP/FP amendment will determine management for approximately 9,790 acres of BLM-administered surface land and approximately 11,810 acres of national forest.

The formal public scoping process for the BCNM Draft RMP-FP amendment/Draft EIS began May 14, 2019, with the publication of a Notice of Intent in the Federal Register (84 FR 21352). The BLM and USFS held three open-house scoping meetings in June 2019. The BLM and USFS used public scoping comments to help identify planning issues and frame the scope of analysis in the Draft EIS. The BLM and USFS also used the scoping process to introduce the public to the preliminary alternatives and the Draft Basis for Analysis to obtain feedback on the alternatives and the analysis strategy.

Major planning issues considered in the Draft RMP-FP amendment/Draft EIS are conserving and protecting monument resources and objects or values including bighorn sheep, peregrine falcon, terrestrial and avian wildlife habitat, cultural and historical resources, geological features and riparian values; maintaining monument values and settings; understanding and addressing tribal values including religious and other significant sites; addressing existing uses such as livestock grazing; managing for sustainable outdoor recreation, visitor growth and visitor enjoyment. The Draft RMP-FP amendment also considers decisions regarding wild and scenic rivers, areas of critical environmental concern (ACECs), and management of lands with wilderness characteristics.

The Draft RMP-FP amendment/Draft EIS evaluates in detail the No Action Alternative (Alternative A) and two action alternatives (Alternatives B and C). The BLM identified Alternative C as the Preferred Alternative. This alternative, however, does not represent the final agency direction. After the public comment period closes, the BLM and USFS will prepare a Proposed RMP and Proposed FP amendment, which may reflect changes or adjustments based on information received during public comment on the Draft RMP-FP amendment/Draft EIS, new information, or changes in BLM or USFS policies or priorities. The Proposed RMP-FP amendment may include objectives and actions described in any of the alternatives analyzed in the Draft.

Alternative A continues existing management in the Planning Area, as reflected in decisions from the Royal Gorge Resource Area Management Plan (BLM 1996) and Pike and San Isabel National Forests; Cimarron and Comanche National Grasslands Land and Resource Management Plan (USFS 1984), as amended. In addition, Alternative A reflects management direction in Presidential Proclamation 9232. Alternative B focuses on protecting monument resources, objects, and values while providing primarily non-motorized recreation activities, such as hiking and boating, in a predominantly primitive and back-country setting. Alternative B limits future recreational infrastructure development while still allowing varied river-based and upland outdoor recreation experiences and outcomes. Alternative C focuses on a wider variety of river and upland recreation opportunities in backcountry, middle and front country settings to enhance the local economy and quality of life for residents and visitors. Alternative C includes protections for monument resources, objects, and values though emphasizes more proactive management of natural resources to address stressors and drivers, and a wider range of recreation opportunities and access as compared with management under Alternative B. Pursuant to 43 CFR 1610.7-2(b), this notice announces a concurrent public comment period on the proposed designation of ACECs. The BLM analyzed one potential ACEC meeting the relevance and importance criteria within the range of action alternatives:

Alternative B would retain the BCNM portion of the Browns Canyon ACEC in its current size (9,755 acres). The following management would apply: Avoid rights-of-way, restrict vehicles and bicycles to existing designated roads and trails and prohibit new route construction, and allow seasonal wildlife closures.

Please note that public comments and information submitted including names, street addresses, and email addresses of persons who submit comments will be available for public review and disclosure at the above address during regular business hours (8 a.m. to 4 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

(Authority: 40 CFR 1506.6, 40 CFR 1506.10, 43 CFR 1610.2)

Gregory P. Shoop,
Acting Colorado State Director.

[FR Doc. 2019-21560 Filed 10-3-19; 8:45 am]

BILLING CODE 4310-JB-P